DEPARTMENT OF COMMERCE

National Oceanic and Atmospheric Administration

Agency Information Collection Activities; Submission to the Office of Management and Budget (OMB) for Review and Approval; Comment Request; Alaska Region Amendment 80 Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 27, 2022 (87 FR 65038), during a 60-day comment period. This notice allows for an additional 30 days for public comments.

Agency: National Oceanic and Atmospheric Administration (NOAA), Commerce.

Title: Alaska Region Amendment 80 Program.

OMB Control Number: 0648-0565.

Form Number(s): None.

Type of Request: Regular submission (extension of a current information collection).

Number of Respondents: 11.

Average Hours per Response: Application for A80 Quota Share: 2 hours; Application for A80 Limited Access Fishery Permit: 2 hours; Application for A80 Cooperative Quota Permit: 2 hours; Application to Transfer A80 Quota Share: 2 hours; Application for Inter-cooperative Transfer of A80 Cooperative Quota: 2 hours; Application for A80 Vessel Replacement: 2 hours; A80 appeals letter: 4 hours; Flatfish Exchange Application: 5 minutes.

Total Annual Burden Hours: 14 hours.

Needs and Uses: The National Marine Fisheries Service (NMFS), Alaska Regional Office, is requesting extension of a currently approved information collection that contains applications for permits and transfers necessary for NMFS to manage the Amendment 80 Program (A80 Program).

Under the Magnuson-Stevens Fishery Conservation and Management Act 16 U.S.C. 1801 et seq., the Secretary of Commerce is responsible for the conservation and management of marine fishery resources within the Exclusive Economic Zone (EEZ) of the United States through NOAA/NMFS. NMFS Alaska Region manages the EEZ off Alaska under the Fishery Management Plan for Groundfish of the Bering Sea and Aleutian Islands Management Area (BSAI FMP) and the Fishery Management Plan for Groundfish of the Gulf of Alaska. The North Pacific Fishery Management Council recommended A80 to the BSAI FMP in June 2006 (72 FR 52668, September 14, 2007). A80 allocates several Bering Sea and Aleutian Islands (BSAI) nonpollock trawl groundfish species among trawl fishery sectors, established a limited access privilege program (LAPP), and facilitated the formation of harvesting cooperatives in the non-American Fisheries Act (non-AFA) trawl catcher/processor sector. More information on the A80 Program is provided on the NMFS Alaska Region website at https://www.fisheries.noaa.gov/alaska/sustainable-fisheries/bering-sea-andaleutian-islands-amendment-80-groundfish-trawl-fishery.

This collection contains applications used by an individual or business entity to apply for A80 quota share, used by A80 quota shareholders to transfer A80 quota share and to apply for an A80 limited access fishery permit, used by A80 cooperatives to apply for cooperative quota and transfer cooperative quota, used by cooperatives or Community Development Quota groups to exchange community quota for one eligible flatfish species with community quota of a different eligible flatfish species, and used by A80 vessel owners to replace their vessels. This information collection also contains the appeals process for an application that is denied.

The type of information collected includes information on the applicants, transferors, transferees, permits, vessels, quota share, cooperative quota, and flatfish harvest quota.

NMFS uses this information to establish eligibility to receive A80 quota share, cooperative quota, and permits; transfer and assign harvest quota; replace vessels used in the A80 Program; determine A80 species initial total allowable catch assignments; determine which vessels must be tracked for catch accounting; and review ownership and control information to ensure that quota share and cooperative quota use caps are not exceeded.

Affected Public: Individuals or households; Business or other for-profit organizations.

Frequency: On occasion; Annually.

Respondent's Obligation: Required to Obtain or Retain Benefits.

Legal Authority: Magnuson-Stevens Fishery Conservation and Management Act, 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0565.

Sheleen Dumas,
Department PRA Clearance Officer, Office of the Chief Information Officer, Commerce Department.

[FR Doc. 2023-04770 Filed 3-7-23; 8:45 am]

BILLING CODE 3510-22-P